DEPARTMENT OF COMMERCE

International Trade Administration

[A-469-815]

Finished Carbon Steel Flanges From Spain: Antidumping Duty Order

AGENCY: Enforcement and Compliance, International Trade Administration, Department of Commerce.

ACTION: Notice.

SUMMARY: Based on affirmative final determinations by the Department of Commerce (the Department) and the International Trade Commission (the ITC), the Department is issuing an antidumping duty order on finished carbon steel flanges from Spain.

DATES: June 14, 2017.

FOR FURTHER INFORMATION CONTACT: Mark Flessner at (202) 482-6312, AD/CVD Operations Office VI, Enforcement and Compliance, International Trade Administration, U.S. Department of Commerce, 1401 Constitution Avenue NW., Washington, DC 20230.

SUPPLEMENTARY INFORMATION:

Background

In accordance with sections 735(d) and 777(i)(1) of the Tariff Act of 1930, as amended (the Act), and 19 CFR 351.210(c), on April 17, 2017, the Department published its affirmative final determination in the less-than-fair-value (LTFV) investigation of finished carbon steel flanges from Spain.¹ On June 7, 2017, the ITC notified the Department of its final affirmative determination, pursuant to section 735(d) of the Act, that an industry in the United States is materially injured within the meaning of section 735(b)(1)(A)(i) of the Act, by reason of the LTFV imports of finished carbon steel flanges from Spain.²

¹ See Finished Carbon Steel Flanges from Spain: Final Determination of Sales at Less Than Fair Value, 82 FR 18108 (April 17, 2017) (Final Determination).

² See Letter from the ITC regarding finished carbon steel flanges from Spain, dated June 7, 2017 (ITC Letter). See also Finished Carbon Steel Flanges from Spain Investigation No. 731-TA-1333 (Final) USITC Publication 4696 (June 2017) (ITC Report).

Scope of the Order

The merchandise covered by this order is finished carbon steel flanges from Spain.³

³ For a full description of the scope of this order, see the Appendix to this notice.

Antidumping Duty Order

As stated above, on June 7, 2017, in accordance with section 735(d) of the Act, the ITC notified the Department of its final determination that the industry in the United States producing finished carbon steel flanges is materially injured by reason of the LTFV imports of finished carbon steel flanges from Spain.⁴ Therefore, in accordance with section 735(c)(2) of the Act, we are issuing this antidumping duty order. Because the ITC determined that imports of finished carbon steel flanges from Spain are materially injuring a U.S. industry, unliquidated entries of such merchandise from Spain entered, or withdrawn from warehouse, for consumption are subject to the assessment of antidumping duties.

⁴ See ITC Letter and ITC Report.

Therefore, in accordance with section 736(a)(1) of the Act, the Department will direct U.S. Customs and Border Protection (CBP) to assess, upon further instruction by the Department, antidumping duties equal to the amount by which the NV of the merchandise exceeds the export price (or constructed export price) of the merchandise, for all relevant entries of finished carbon steel flanges from Spain. Antidumping duties will be assessed on unliquidated entries of finished carbon steel flanges from Spain entered, or withdrawn from warehouse, for consumption on or after February 8, 2017, the date of publication of the Preliminary Determination,⁵ but will not include entries occurring after the expiration of the provisional measures period and before publication in the Federal Register of the ITC's final injury determination, as further described below.

⁵ See Finished Carbon Steel Flanges from Spain: Preliminary Determination of Sales at Less Than Fair Value, 82 FR 9723 (February 8, 2017) (Preliminary Determination).

Continuation of Suspension of Liquidation

In accordance with section 735(c)(1)(B) of the Act, we will instruct CBP to continue to suspend liquidation on all relevant entries of finished carbon steel flanges from Spain. These instructions suspending liquidation will remain in effect until further notice.

We will also instruct CBP to require cash deposits for estimated antidumping duties equal to the estimated weighted-average dumping margins indicated below. Accordingly, effective on the date of publication in the Federal Register of the ITC's final affirmative injury determination, CBP will require, at the same time as importers would normally deposit estimated duties on this subject merchandise, a cash deposit equal to the estimated weighted-average dumping margins listed below.⁶ The “all-others” rates apply to all producers or exporters not specifically listed.

⁶ See section 736(a)(3) of the Act.

Provisional Measures

Section 733(d) of the Act states that instructions issued pursuant to an affirmative preliminary determination may not remain in effect for more than four months, except where exporters representing a significant proportion of exports of the subject merchandise request the Department to extend that four-month period to no more than six months. We received no such request. In the underlying investigation, the Department published the Preliminary Determination on February 8, 2017. Therefore, the unextended period, beginning on the date of publication of the Preliminary Determination, ended on June 8, 2017. Furthermore, section 737(b) of the Act states that definitive duties are to begin on the date of publication of the ITC's final injury determination.

Therefore, in accordance with section 733(d) of the Act and our practice, we will instruct CBP to terminate the suspension of liquidation and to liquidate, without regard to antidumping duties, unliquidated entries of finished carbon steel flanges from Spain entered, or withdrawn from warehouse, for consumption after June 8, 2017, the date on which the provisional measures expired, until and through the day preceding the date of publication of the ITC's injury determinations in the Federal Register. Suspension of liquidation will resume on the date of publication of the ITC's determination in the Federal Register.

Estimated Weighted-Average Dumping Margins

The estimated weighted-average dumping margins for this antidumping order are as follows:

Exporter/manufacturer | Weighted-average dumping margins (percent)
ULMA Forja, S.Coop | 24.43
All Others | 18.81

Notifications to Interested Parties

This notice constitutes the antidumping duty order with respect to finished carbon steel flanges from Spain pursuant to section 736(a) of the Act. Interested parties can find a list of antidumping duty orders currently in effect at http://enforcement.trade.gov/stats/iastats1.html.

This order is published in accordance with section and 736(a) of the Act and 19 CFR 351.211(b).

Dated: June 9, 2017.
Ronald K. Lorentzen,
Acting Assistant Secretary for Enforcement and Compliance.

Appendix—Scope of the Order

The scope of this order covers finished carbon steel flanges. Finished carbon steel flanges differ from unfinished carbon steel flanges (also known as carbon steel flange forgings) in that they have undergone further processing after forging, including, but not limited to, beveling, bore threading, center or step boring, face machining, taper boring, machining ends or surfaces, drilling bolt holes, and/or de-burring or shot blasting. Any one of these post-forging processes suffices to render the forging into a finished carbon steel flange for purposes of this order. However, mere heat treatment of a carbon steel flange forging (without any other further processing after forging) does not render the forging into a finished carbon steel flange for purposes of this order.

While these finished carbon steel flanges are generally manufactured to specification ASME B16.5 or ASME B16.47 series A or series B, the scope is not limited to flanges produced under those specifications. All types of finished carbon steel flanges are included in the scope regardless of pipe size (which may or may not be expressed in inches of nominal pipe size), pressure class (usually, but not necessarily, expressed in pounds of pressure, e.g., 150, 300, 400, 600, 900, 1500, 2500, etc.), type of face (e.g., flat face, full face, raised face, etc.), configuration (e.g., weld neck, slip on, socket weld, lap joint, threaded, etc.), wall thickness (usually, but not necessarily, expressed in inches), normalization, or whether or not heat treated. These carbon steel flanges either meet or exceed the requirements of the ASTM A105, ASTM A694, ASTM A181, ASTM A350 and ASTM A707 standards (or comparable foreign specifications). The scope includes any flanges produced to the above-referenced ASTM standards as currently stated or as may be amended. The term “carbon steel” under this scope is steel in which:

(a) Iron predominates, by weight, over each of the other contained elements:

(b) the carbon content is 2 percent or less, by weight; and

(c) none of the elements listed below exceeds the quantity, by weight, as indicated:

(i) 0.87 percent of aluminum;

(ii) 0.0105 percent of boron;

(iii) 10.10 percent of chromium;

(iv) 1.55 percent of columbium;

(v) 3.10 percent of copper;

(vi) 0.38 percent of lead;

(vii) 3.04 percent of manganese;

(viii) 2.05 percent of molybdenum;

(ix) 20.15 percent of nickel;

(x) 1.55 percent of niobium;

(xi) 0.20 percent of nitrogen;

(xii) 0.21 percent of phosphorus;

(xiii) 3.10 percent of silicon;

(xiv) 0.21 percent of sulfur;

(xv) 1.05 percent of titanium;

(xvi) 4.06 percent of tungsten;

(xvii) 0.53 percent of vanadium; or

(xviii) 0.015 percent of zirconium.

Finished carbon steel flanges are currently classified under subheadings 7307.91.5010 and 7307.91.5050 of the Harmonized Tariff Schedule of the United States (HTSUS). They may also be entered under HTSUS subheadings 7307.91.5030 and 7307.91.5070. The HTSUS subheadings are provided for convenience and customs purposes; the written description of the scope is dispositive.

[FR Doc. 2017-12404 Filed 6-13-17; 8:45 am]

BILLING CODE 3510-DS-P